INTERNATIONAL TRADE COMMISSION

[Inv. No. 337-TA-905]

Certain Wireless Devices Including Mobile Phones and Tablets II; Notice of Commission Determination Not To Review an Initial Determination Granting Joint Motions To Terminate the Investigation Based on Settlement Agreements; Termination of the Investigation

AGENCY: U.S. International Trade Commission.

ACTION: Notice.

SUMMARY: Notice is hereby given that the U.S. International Trade Commission has determined not to review an initial determination (“ID”) (Order No. 22) granting joint motions to terminate the investigation based on settlement agreements. The investigation is terminated.

FOR FURTHER INFORMATION CONTACT: Cathy Chen, Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 24, 2014, based on a complaint filed on December 18, 2013, on behalf of Pragmatus Mobile, LLC of Alexandria, Virginia (“Pragmatus”). 79 FR 4173 (Jan. 24, 2014). The complaint alleged violations of Section 337 of the Tariff Act of 1930, as amended, 19 U.S.C. 1337, in the sale for importation, importation, or sale within the United States after importation of certain wireless devices, including mobile phones and tablets, by reason of infringement of U.S. Patent Nos. 8,149,124 and 8,466,795. The Commission's notice of investigation named as respondents Nokia Corporation of Espoo, Finland; and Nokia, Inc. of Sunnyvale, California (collectively, “Nokia”); Samsung Electronics Co., Ltd of Seoul, Republic of Korea; Samsung Electronics America, Inc. of Ridgefield Park, New Jersey; and Samsung Telecommunications America, L.L.C. of Richardson, Texas (collectively, “Samsung”); Sony Corporation of Tokyo, Japan; Sony Mobile Communications AB of Lund, Sweden; and Sony Mobile Communications (USA), Inc. of Atlanta, Georgia (collectively, “Sony”); ZTE Corporation of Guangdong, China; and ZTE (USA) Inc. of Richardson, Texas (collectively, “ZTE”). The Office of Unfair Import Investigations participated in the investigation.

On July 18, 2014, Pragmatus, Nokia, Sony, and ZTE jointly moved to terminate the investigation based upon a settlement reached by the parties (“the Nokia/Sony/ZTE motion”). On July 23, 2014, Pragmatus and Samsung also jointly moved to terminate the investigation based upon a settlement reached by the parties (“the Samsung motion”). The Commission investigative staff filed responses in support of both motions.

On August 4, 2014, the ALJ issued the subject ID (Order No. 22) granting both motions. No petitions for review were filed.

After considering the subject ID and the relevant portions of the record, the Commission has determined not to review the subject ID. The Commission agrees with the ALJ that both motions comply with the Commission's rules for termination, and that the settlements do not adversely affect the public health and welfare, competitive conditions in the U.S. economy, the production of like or directly competitive articles in the United States, and U.S. consumers. Accordingly, the investigation is terminated.

The authority for the Commission's determination is contained in section 337 of the Tariff Act of 1930, as amended (19 U.S.C. 1337), and in section 210 of the Commission's Rules of Practice and Procedure (19 CFR Part 210).

By order of the Commission.
Issued: August 25, 2014.
William R. Bishop,
Supervisory Hearings and Information Officer.

[FR Doc. 2014-20564 Filed 8-28-14; 8:45 am]

BILLING CODE 7020-02-P